SOCIAL SECURITY ADMINISTRATION

[Docket No. SSA-2015-0056]

Privacy Act of 1974; Proposed New System of Records

AGENCY: Social Security Administration (SSA).

ACTION: Proposed new system of records.

SUMMARY: In accordance with the Privacy Act we are issuing public notice of our intent to establish a new system of records entitled, Anti-Harassment & Hostile Work Environment Case Tracking and Records System (60-0380), hereinafter referred to as the Anti-Harassment System. The Equal Employment Opportunity Commission (EEOC) requires agencies to implement anti-harassment policies and procedures separate from the Equal Employment Opportunity process. As a result of implementing those policies and procedures, SSA is creating the Anti-Harassment System, which will capture and house information regarding allegations of workplace harassment filed by SSA employees, including SSA contractors, alleging harassment by another SSA employee or SSA contractor. The Anti-Harassment System supports our efforts to prevent harassment from occurring, to stop it before it becomes severe or pervasive, and to conduct prompt, thorough, and impartial investigations into allegations of harassment, thus supporting our obligation to maintain a work environment free from discrimination, including harassment.

DATES: We invite public comment on this new system of records. In accordance with 5 U.S.C. 552a(e)(4) and (e)(11), the public is given a 30-day period in which to submit comments. Therefore, please submit any comments by January 3, 2017.

ADDRESSES: The public, Office of Management and Budget (OMB), and Congress may comment on this publication by writing to the Executive Director, Office of Privacy and Disclosure, Office of the General Counsel, SSA, Room 617 Altmeyer Building, 6401 Security Boulevard, Baltimore, Maryland 21235-6401, or through the Federal e-Rulemaking Portal at http://www.regulations.gov. All comments we receive will be available for public inspection at the above address and we will post them to http://www.regulations.gov.

FOR FURTHER INFORMATION CONTACT: Pamela J. Carcirieri, Supervisory Government Information Specialist, Privacy Implementation Division, Office of Privacy and Disclosure, Office of the General Counsel, SSA, Room 617 Altmeyer Building, 6401 Security Boulevard, Baltimore, Maryland 21235-6401, telephone: (410) 965-0355, email: Pamela.Carcirieri@ssa.gov or Navdeep Sarai, Government Information Specialist, Privacy Implementation Division, Office of Privacy and Disclosure, Office of the General Counsel, SSA, Room 617 Altmeyer Building, 6401 Security Boulevard, Baltimore, Maryland 21235-6401, telephone: (410) 965-2997, email: Navdeep.Sarai@ssa.gov.

In accordance with 5 U.S.C. 552a(r), we have provided a report to OMB and Congress on this new system of records.

DATED: November 28, 2016.
Glenn Sklar,
Acting Executive Director, Office of Privacy and Disclosure, Office of the General Counsel.

Social Security Administration (SSA)

System Number: 60-0380

SYSTEM NAME:

Anti-Harassment & Hostile Work Environment Case Tracking and Records System

SECURITY CLASSIFICATION:

None.

SYSTEM LOCATION:

Social Security Administration, Office of Human Resources, Office of Labor Management and Employee Relations, 6401 Security Boulevard, Baltimore, Maryland 21235.

CATEGORIES OF INDIVIDUALS COVERED BY THE SYSTEM:

SSA employees and SSA contractors who report allegations of workplace harassment to the Office of Civil Rights and Equal Opportunity (OCREO) or to management; SSA employees and SSA contractors against whom allegations of workplace harassment have been reported to OCREO or to management; and SSA Harassment Prevention Officers (HPOs), investigators, and independent reviewers who conduct program business or inquiries relative to reports of alleged workplace harassment.

CATEGORIES OF RECORDS IN THE SYSTEM:

This system maintains information collected or generated in response to an allegation of workplace harassment, which may include: Allegations of workplace harassment; information generated during fact-finding investigations; and other records related to the investigation and/or response taken as a result of the allegation.

AUTHORITY FOR MAINTENANCE OF THE SYSTEM:

Title VII of the Civil Rights Act of 1964, 42 U.S.C. 2000e, et seq.; Age Discrimination in Employment Act of 1967, 29 U.S.C. 621, et seq.; The Americans with Disabilities Act of 1990 (ADA), 42 U.S.C. 12101, et seq.; The ADA Amendments Act of 2008; The Rehabilitation Act of 1973 (Section 501), 29 U.S.C. 791; The Notification and Federal Employee Antidiscrimination and Retaliation Act of 2002 (No FEAR Act), Public Law 107-174; Genetic Information Nondiscrimination Act of 2008 (GINA), Public Law 110-233; Executive Order 13087, Executive Order 13152, and further amendments to Executive Order 11478 and Executive Order 11246; and EEOC Enforcement Guidance: Vicarious Employer Liability for Unlawful Harassment by Supervisors, Notice 915.002, V.C.1 (June 18, 1999).

PURPOSE:

The SSA takes seriously its obligation to maintain a work environment free from discrimination, including harassment. Managers and employees are responsible for preventing harassment from occurring and stopping harassment before it becomes severe or pervasive. The agency will take seriously all allegations of workplace harassment, and will conduct prompt, thorough, and impartial investigations into allegations of harassment. The Anti-Harassment System will capture and house information regarding allegations of workplace harassment filed by SSA employees and SSA contractors alleging harassment by another SSA employee and any investigation and/or response taken as a result of the allegation. The Anti-Harassment System will also capture and house information regarding allegations of workplace harassment filed by SSA employees alleging harassment by an SSA contractor and any investigation and/or response taken as a result of the allegation.

ROUTINE USES OF RECORDS COVERED BY THE SYSTEM, INCLUDING CATEGORIES OF USERS AND THE PURPOSES OF SUCH USES:

We will disclose records pursuant to the following routine uses, however, we will not disclose any information defined as “return or return information” under 26 U.S.C. 6103 of the Internal Revenue Service Code (IRC), unless authorized by statute, the Internal Revenue Service (IRS), or IRS regulations.

1. To a congressional office in response to an inquiry from that office made on behalf of, and at the request of, the subject of the record or a third party acting on the subject's behalf.

2. To the Department of Justice (DOJ), a court or other tribunal, or another party before such court or tribunal, when

(a) SSA, or any component thereof; or

(b) any SSA employee in his/her official capacity; or

(c) any SSA employee in his/her individual capacity where DOJ (or SSA, where it is authorized to do so) has agreed to represent the employee; or

(d) the United States or any agency thereof where SSA determines that the litigation is likely to affect SSA or any of its components, is a party to the litigation or has an interest in such litigation, and SSA determines that the use of such records by DOJ, a court or other tribunal, or another party before the tribunal is relevant and necessary to the litigation, provided, however, that in each case, the agency determines that disclosure of the records to the DOJ, court or other tribunal, or another party is a use of the information contained in the records that is compatible with the purpose for which the records were collected.

3. To the National Archives and Records Administration under 44 U.S.C. 2904 and 2906.

4. To appropriate Federal, State, and local agencies, entities, and persons when:

(a) We suspect or confirm that the security or confidentiality of information in this system of records has been compromised;

(b) we determine that as a result of the suspected or confirmed compromise there is a risk of harm to economic or property interests, identity theft or fraud, or harm to the security or integrity of this system or other systems or programs that rely upon the compromised information; and

(c) we determine that disclosing the information to such agencies, entities, and persons is necessary to assist in our efforts to respond to the suspected or confirmed compromise and prevent, minimize, or remedy such harm.

5. To the Office of the President in response to an inquiry from that office made on behalf of, and at the request of, the subject of the record or a third party acting on the subject's behalf.

6. To contractors and other Federal agencies, as necessary, for the purpose of assisting the SSA in the efficient administration of its programs. We will disclose information under this routine use only in situations in which SSA may enter into a contractual or similar agreement with a third party to assist in accomplishing an agency function relating to this system of records.

7. To student volunteers, individuals working under a personal services contract, and other workers who technically do not have the status of Federal employees, when they are performing work for SSA, as authorized by law, and they need access to personally identifiable information in SSA records in order to perform their assigned Agency functions.

8. To any agency, person, or entity in the course of an investigation to the extent necessary to obtain information pertinent to the investigation.

9. To the alleged victim or harasser, or their representatives, the minimal information necessary to provide the status or the results of the investigation or case involving them.

10. To the Office of Personnel Management or the Merit Systems Protection Board (including the Office of Special Counsel) when information is requested in connection with appeals, special studies of the civil service and other merit systems, review of those agencies' rules and regulations, investigation of alleged or possible prohibited personnel practices, and for such other functions of these agencies as may be authorized by law, e.g., 5 U.S.C. 1205 and 1206.

11. To the Equal Employment Opportunity Commission when requested in connection with investigations into alleged or possible discriminatory practices in the Federal sector, examination of Federal affirmative employment programs, compliance by Federal agencies with Uniformed Guidelines on Employee Selection Procedures, or other functions vested in the Commission.

12. To officials of labor organizations recognized under 5 U.S.C. chapter 71 when relevant and necessary to their duties of exclusive representation concerning personnel policies, practices, and matters affecting conditions of employment.

13. To Federal, State, and local law enforcement agencies and private security contractors, as appropriate, information necessary:

(a) To enable them to protect the safety of SSA employees and customers, the security of the SSA workplace, the operation of SSA facilities, or

(b) To assist investigations or prosecutions with respect to activities that affect such safety and security or activities that disrupt the operations of SSA facilities.

DISCLOSURE TO CONSUMER REPORTING AGENCIES:

None.

POLICIES AND PRACTICES FOR STORING, RETRIEVING, ACCESSING, RETAINING, AND DISPOSING OF RECORDS IN THE SYSTEM:

STORAGE: We will store records in this system in paper and electronic form.

RETRIEVABILITY: We will retrieve records by the name of the alleging employee, the name of the alleged harasser, and unique case identifiers.

SAFEGUARDS:

We retain paper and electronic records with personal identifiers in secure storage areas accessible only by our authorized employees who have a need for the information when performing their official duties. Security measures include the use of access codes (personal identification number (PIN) and password) to initially enter our computer systems that house the data. We further restrict the electronic records by the use of the PIN for only those employees who are authorized to access the system. We keep paper records in locked cabinets within secure areas.

We annually provide our employees and contractors with appropriate security awareness training that includes reminders about the need to protect personally identifiable information (PII) and the criminal penalties that apply to unauthorized access to, or disclosure of, PII (5 U.S.C. 552a(i)(1)). Furthermore, employees and contractors with access to databases maintaining PII must sign a sanctions document annually, acknowledging their accountability for inappropriately accessing or disclosing such information.

RETENTION AND DISPOSAL:

These records are currently unscheduled and will not be deleted or destroyed.

SYSTEM MANAGER AND ADDRESS:

Social Security Administration, Office of Human Resources, Office of Labor Management and Employee Relations, 6401 Security Boulevard, Baltimore, MD 21235.

NOTIFICATION PROCEDURES:

This system of records has been exempted from the Privacy Act's notification, access, and amendment provisions as stated below. However, individuals may request information about whether this system contains a record about them by submitting a written request to the system manager at the above address, which includes their name, SSN, or other information that may be in this system of records that will identify them. Individuals requesting notification by mail must include a notarized statement to us to verify their identity or must certify in the request that they are the individual they claim to be and that they understand that the knowing and willful request for, or acquisition of, a record pertaining to another individual under false pretenses is a criminal offense. A determination of whether notification will be provided, or a record may be accessed or amended, will be made after a request is received.

Individuals requesting notification of records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

Individuals requesting notification by telephone must verify their identity by providing identifying information that parallels the information in the record about which notification is sought. If we determine that the identifying information the individual provides by telephone is insufficient, we will require the individual to submit a request in writing or in person. If an individual requests information by telephone on behalf of another individual, the subject individual must be on the telephone with the requesting individual and with us in the same phone call. We will establish the subject individual's identity (his or her name, SSN, address, date of birth, and place of birth, along with one other piece of information such as mother's maiden name), and ask for his or her consent to provide information to the requesting individual. These procedures are in accordance with our regulations at 20 CFR 401.40 and 401.45.

RECORD ACCESS PROCEDURES:

Same as notification procedures. Individuals must also reasonably specify the record contents they are seeking. These procedures are in accordance with our regulations at 20 CFR 401.40(c).

CONTESTING RECORD PROCEDURES:

Same as notification procedures. Individuals should also reasonably identify the record, specify the information they are contesting, and state the corrective action sought and the reasons for the correction with supporting justification showing how the record is incomplete, untimely, inaccurate, or irrelevant. These procedures are in accordance with our regulations at 20 CFR 401.65(a).

RECORD SOURCE CATEGORIES:

We obtain information in this system from employees and witnesses, SSA contractors, members of the public, law enforcement officers of other Federal agencies, and other individuals involved with the allegation. Some information, such as the employee's name, PIN, employee identification number, employee's position, and employee's job location is pre-populated in the system by using information contained in our Human Resource Operational Data Store system.

SYSTEMS EXEMPTED FROM CERTAIN PROVISIONS OF THE PRIVACY ACT:

This system of records has been exempted from certain provisions of the Privacy Act pursuant to 5 U.S.C. 552a(k)(2). Rules have been promulgated in accordance with the requirements of 5 U.S.C. 553(b), (c), and (e) and have been published in today's Federal Register.

[FR Doc. 2016-29035 Filed 12-1-16; 8:45 am]

BILLING CODE 4191-02-P